DEPARTMENT OF COMMERCE

National Oceanic and Atmospheric Administration

50 CFR Part 622

RIN 0648-BN91

Reef Fish Fishery of the Gulf of America; Amendment 58B

AGENCY: National Marine Fisheries Service (NMFS), National Oceanic and Atmospheric Administration (NOAA), Commerce.

ACTION: Announcement of availability of fishery management plan amendment; request for comments.

SUMMARY: The Gulf Council (Council) has submitted Amendment 58B to the Fishery Management Plan for the Reef Fish Resources of the Gulf (FMP) (Amendment 58B) for review, approval, and implementation by NMFS. If approved, Amendment 58 would, for the deep-water grouper (DWG) complex, revise the status determination criteria, sector allocations, and catch limits, set a recreational annual catch limit (ACL), and revise the recreational accountability measure (AM). The purpose of Amendment 58B is to update catch levels, management measures, and sector allocations for the DWG complex consistent with the best scientific information available.

DATES: Written comments on Amendment 58B must be received no later than May 4, 2026.

ADDRESSES: A plain language summary of Amendment 58B is available at https://www.regulations.gov/docket/NOAA-NMFS-2026-0661. You may submit comments on this document, identified by NOAA-NMFS-2026-0661, by either of the following methods:

• Electronic Submission: Submit comments electronically via the Federal e-Rulemaking Portal. Visit https://www.regulations.gov and type NOAA-NMFS-2026-0661 in the Search box. Click on the “Comment” icon, complete the required fields, and enter or attach your comments.

• Mail: Send written comments to Daniel Luers, NMFS Southeast Regional Office, 263 13th Avenue South, St. Petersburg, FL 33701.

Instructions: Comments sent by any other method, to any other address or individual, or received after the end of the comment period may not be considered by NMFS. All comments received are part of the public record and will generally be posted for public viewing on https://www.regulations.gov without change. All personal identifying information, e.g., name, address, etc., confidential business information, or otherwise sensitive information submitted voluntarily by the sender will be publicly accessible. NMFS will accept anonymous comments (enter N/A in the required fields if you wish to remain anonymous).

An electronic copy of Amendment 58B is available from https://www.regulations.gov or from the Southeast Regional Office website at: https://www.fisheries.noaa.gov/action/amendment-58b-modifications-deep-water-grouper-management-measures. Amendment 58B includes an environmental assessment, Regulatory Flexibility Act analysis, regulatory impact review, and fishery impact statement.

FOR FURTHER INFORMATION CONTACT: Daniel Luers, NMFS Southeast Regional Office, telephone: 727-824-5305, or email: Daniel.Luers@noaa.gov.

SUPPLEMENTARY INFORMATION: The Gulf of America (Gulf) reef fish fishery, which includes the DWG complex (composed of yellowedge grouper, snowy grouper, warsaw grouper, and speckled hind) is managed under the FMP. The FMP was prepared by NMFS and the Council, and is implemented by NMFS through regulations at 50 CFR part 622 under the authority of the Magnuson-Stevens Fishery Conservation and Management Act (Magnuson-Stevens Act). The Magnuson-Stevens Act requires each regional fishery management council to submit any FMP or FMP amendment to the Secretary of Commerce (Secretary) for review and approval, partial approval, or disapproval. The Magnuson-Stevens Act also requires that NMFS, upon receiving an FMP or FMP amendment, publish an announcement in the Federal Register notifying the public that the FMP or amendment is available for review and comment.

Background

The Magnuson-Stevens Act requires NMFS and regional fishery management councils to prevent overfishing and achieve, on a continuing basis, the optimum yield (OY) from federally managed fish stocks. These mandates are intended to ensure fishery resources are managed for the greatest overall benefit to the Nation, particularly with respect to providing food production and recreational opportunities, and protecting marine ecosystems.

Unless otherwise noted, all weights in this notice are in pounds (lb), gutted weight.

The current species composition of the DWG complex (yellowedge grouper, snowy grouper, warsaw grouper, and speckled hind) was established in the Generic ACL and AM Amendment to the FMP (76 FR 82044, December 29, 2011). The current catch limits for the complex were also established in the Generic ACL and AM Amendment based on the results of a stock assessment for yellowedge grouper (Southeast Data, Assessment, and Review [SEDAR] 22) and using Tier 3b of the Council's Acceptable Biological Catch (ABC) Control Rule for the other species. Tier 3b of the ABC Control Rule uses the mean of the landings from a representative time series. The current DWG complex overfishing limit (OFL) and ABC are 1.113 million lb (0.505 million kilogram (kg)) and 1.105 million lb (0.501 million kg), respectively. The DWG complex ACL equals the ABC. The current maximum sustainable yield (MSY) proxy for the DWG complex was established in Amendment 48 to the FMP. The MSY proxy is based on the yield associated with a fishing mortality rate (F) that would result in a spawning stock biomass (SSB) of 30 percent of the spawning potential ratio (SPR) (F30%SPR), where SPR is the ratio of the SSB to its unfished state.

In 2024, a stock assessment of yellowedge grouper was completed (SEDAR 85) and subsequently reviewed by the Council's Scientific and Statistical Committee (SSC). SEDAR 85 included recreational data from the Marine Recreational Information Program (MRIP)—Fishing Effort Survey (FES) rather than the previously used Marine Recreational Fishery Statistics Survey (MRFSS). MRIP-FES generally generates higher recreational effort and harvest estimates than MRFSS because MRIP-FES is designed to more accurately measure fishing effort.

The results of SEDAR 85 indicate that yellowedge grouper was not overfished but was experiencing overfishing. The SSC recommended updated status determination criteria for the DWG complex and new catch levels that would end overfishing of yellowedge grouper. Because there are no stock assessments for the three remaining DWG species (snowy grouper, warsaw grouper, and speckled hind) the SSC recommended new current catch levels using Tier 3b of the Council's ABC Control Rule and average landings from 2010 to 2022. Consistent with the data used in SEDAR 85, recreational landings were calibrated to MRIP-FES. The SSC also recommended keeping yellowedge grouper in the DWG complex reduce discard mortality because the species inhabit similar environments. Thus, the proposed DWG complex OFL of 731,035 lb (331,592 kg) and ABC of 555,026 lb (251,756 kg) are equal to the sum of the recommended catch limits for yellowedge grouper based on SEDAR 85 and recommended catch limits for the other DWG species. Because of the different recreational landings estimates used to determine the current and proposed stock complex catch limits, those catch limits are not directly comparable. However, the proposed catch limits are a significant reduction for the complex.

Commercial harvest of the DWG complex has been managed under the Grouper-Tilefish Individual Fishing Quota (IFQ) program since the program was implemented by Amendment 29 to the FMP in 2010 (74 FR 44732, August 31, 2009). The current commercial quota for the DWG complex is 1.024 million lb (0.464 million kg) and is set 4 percent less than the commercial ACL of 1.070 million lb (0.485 million kg). The 4 percent buffer allows for flexibility measures between the other shallow-water grouper (Other SWG; composed of scamp, yellowmouth grouper, black grouper, and yellowfin grouper) complex and DWG complex to reduce discards and allow commercial fishermen to better use the allocation they have in a given fishing year. The flexibility measures allow a shareholder to land scamp under their DWG allocation, as long as they have no Other SWG allocation remaining in their shareholder account or any associated vessel accounts. These measures also allow a shareholder to land warsaw grouper or speckled hind under their Other SWG allocation, provided they have no DWG allocation remaining in their shareholder account or any associated vessel accounts. The IFQ program acts as the commercial AM and the DWG complex commercial quota has never been exceeded under the IFQ program.

Currently, there is no specified recreational ACL for the DWG complex. However, the commercial ACL is specified as 96.5 percent of the DWG complex stock ACL, so there is a portion of the stock (total) ACL which is unallocated. The commercial allocation is based on the sectors average landings from 2001-2004. At the time the current catch limits were adopted, the unallocated portion of the stock ACL was determined to be sufficient to allow historic recreational landings of the DWG complex to occur. However, recreational landings comprise an increasing proportion of the total DWG complex landings in recent years. Therefore, the Council reviewed the allocation in Amendment 58B and determined it was appropriate to revise the allocation based on the average recreational landings from the most recent 5 years (2019-2023). This would result in a commercial allocation of 89.79 percent and a recreational allocation of 10.21 percent of the complex ACL.

The AM for the recreational sector states that in the year following an overage of the complex ACL, the recreational sector will close when combined landings are projected to reach the complex ACL. Landings have never reached the complex ACL and, thus, no recreational AM closure has been necessary. However, because the recreational AM is based on reaching the complex ACL, it could allow overfishing to occur since the recreational (undefined) catch limit (i.e., the difference between the complex ACL and the commercial ACL) could be exceeded prior to the commercial sector harvesting its commercial quota in the IFQ program. In this scenario, the commercial sector would still be permitted to harvest their commercial quota, thereby allowing for the complex ACL to be exceeded. This scenario would be more likely to occur in the future given the reductions in catch limits proposed in Amendment 58B and this rule.

Actions Contained in Amendment 58B

To ensure management measures are based on the best scientific information available, end overfishing of the yellowedge grouper stock, and achieve the OY of the DWG complex, Amendment 58B would, for the DWG complex, revise the MSY proxy, OFL, ABC, and sector allocations. Amendment 58B would also revise the DWG complex ACL, commercial ACL, and commercial quota, establish a recreational ACL, and revise the recreational AM.

MSY Proxy, OFL, and ABC

Amendment 58B would revise the MSY proxy, OFL, and ABC for the DWG complex based on the SSC recommendation. The MSY proxy would be the yield when fishing at an F that produces an SPR of 40 percent (F40%SPR). The complex OFL would be 731,035 lb (331,592 kg), and the ABC would be 555,026 lb (251,756 kg). The complex ACL would be set equal to the ABC.

Sector Allocations

Currently, the commercial sector is allocated 96.50 percent of the complex ACL based on the sectors average landings from 2001 to 2004. As described in Amendment 58B, the sector allocations would be updated based on the average recreational landings from the most recent 5 years (2019-2023). This results in a commercial allocation of 89.79 percent and a recreational allocation of 10.21 percent of the complex ACL. The Council determined that it was appropriate to adjust the allocations based on recent recreational landings because this would still allow the commercial sector to harvest the majority of the DWG complex ACL while also recognizing the increase in recreational fishing effort.

Catch Limits

Amendment 58B would reduce the current DWG complex ACL from 1.105 million lb (0.501 million kg) to 555,026 lb (251,756 kg). As noted above, these catch limits are not directly comparable but the proposed complex ACL is a significant reduction. Amendment 58B would reduce the commercial ACL from 1.070 million lb (0.485 million kg) to 498,000 lb (225,889 kg), and the commercial quota would be reduced from 1.024 million lb (0.464 million kg) to 478,000 lb (216,817 kg). As is currently the case, the proposed commercial quota would be 4 percent less than the proposed commercial ACL.

Under the IFQ program, the commercial ACL and quota values are rounded down to the nearest thousand lb (454 kg). This is to ensure that when allocation is distributed, the distributed allocation does not exceed the commercial quota. Without rounding, the distributed allocation could exceed the commercial quota based on how IFQ share percentages are calculated and the allocation is distributed. For this reason, the commercial and recreational ACLs do not sum to equal the complex ACL.

There is currently no specified recreational ACL. Amendment 58B would set a recreational ACL at 56,668 lb (25,704 kg).

Recreational AM

Amendment 58B would also modify the AM for the recreational sector, which states that in the year following an overage of the complex ACL, the recreational sector will close when combined landings reach or are projected to reach the complex ACL. Amendment 58B would revise the recreational AM to use a moving 3-year average of DWG complex recreational landings compared to the average recreational ACL and a moving 3-year average of DWG total landings compared to the average complex ACL. If average landings exceed both the average complex ACL and average recreational ACL, then during the following fishing year, the length of the recreational fishing season would be reduced to ensure that the recreational ACL is not exceeded, unless NMFS determines, based on the best scientific information available, that no fishing season reduction is necessary. The revised recreational AM would help constrain recreational landings if needed to prevent successive overages of the complex ACL, which would reduce the risk of overfishing.

Proposed Rule for Amendment 58B

A proposed rule to implement Amendment 58B has been drafted. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

The Council has submitted Amendment 58B for review, approval, and implementation by the Secretary. Comments on Amendment 58B must be received no later than May 4, 2026. Comments received during the respective comment periods, whether specifically directed to Amendment 58B or the proposed rule, will be considered by NMFS in the decision to approve, partially approve, or disapprove, Amendment 58B. Comments received after the comment periods will not be considered by NMFS in this decision. All comments received by NMFS on the amendment or the proposed rule during their respective comment periods will be addressed in the final rule.

Authority: 16 U.S.C. 1801 et seq.

Dated: February 27, 2026.
David R. Blankinship,
Acting Director, Office of Sustainable Fisheries, National Marine Fisheries Service.

[FR Doc. 2026-04183 Filed 3-2-26; 8:45 am]

BILLING CODE 3510-22-P